DEPARTMENT OF ENERGY

Federal Energy Regulatory Commission

[Project No. 5638-003]

Northwoods Renewables, LLC, Parker & Nelson Holdings, LLC; Notice of Transfer of Exemption

1. On June 9, 2022, Northwoods Renewables, LLC, exemptee for the 105-kilowatt Ashland Papermill Hydroelectric Project No. 5638, filed a letter notifying the Commission that the project was transferred from Northwoods Renewables, LLC to Parker & Nelson Holdings, LLC. The exemption from licensing was originally issued on April 9, 1982.¹ The project is located on the Squam River in Grafton County, New Hampshire. The transfer of an exemption does not require Commission approval.

¹ Mill Pond Associates, Inc., 19 FERC ¶ 62,045 (1982). On February 27, 2013, the project was transferred to Northwoods Renewables, LLC.

2. Parker & Nelson Holdings, LLC is now the exemptee of the Ashland Papermill Hydroelectric Project No. 5638. All correspondence must be forwarded to Jessica Barlett, Parker & Nelson Holdings, LLC, 1249 NH Route 175, Campton, New Hampshire 03223, Phone: (603) 236-2654, Email: Barlettbookkeepers@gmail.com.

Dated: August 15, 2022.
Kimberly D. Bose,
Secretary.

[FR Doc. 2022-17875 Filed 8-18-22; 8:45 am]

BILLING CODE 6717-01-P